DEPARTMENT OF HEALTH AND HUMAN SERVICES

Administration for Children and Families

[CFDA Number 93.570]

Announcement of a Single-Source Grant Award to Lao Family Community Development, Inc., in Oakland, CA

AGENCY: Office of Community Services, ACF, HHS.

ACTION: Announcing the award of a single-source grant to Lao Family Community Development, Inc. (LFCD), in Oakland, CA, to support activities that will enhance the successful renovation of the their Culture, Arts, Recreation and Education Center (CARE Center), creating jobs while increasing the health and well-being of the local community.

SUMMARY: The Administration for Children and Families (ACF), Office of Community Services (OCS) announces the award of a single-source grant for $686,000 to the Lao Family Community Development, Inc., in Oakland, CA, to support the renovation of a former warehouse, located in the Fruitvale district, into a mixed-use building.

DATES: The period of support is from September 30, 2014 to June 30, 2015.

FOR FURTHER INFORMATION CONTACT: Rafael J. Elizalde, Program Manager Division of Community Discretionary Programs, 370 L' Enfant Promenade SW., Washington, DC 20047. Telephone: 202-401-5115; Email: rafael.elizalde@acf.hhs.gov.

SUPPLEMENTARY INFORMATION: The Office of Community Services (OCS) Community Economic Development (CED) program announces the award of $686,000 to Lao Family Community Development, Inc. (LFCD), in Oakland, CA. CED is a federal grant program funding Community Development Corporations (CDCs) that address the economic needs of low-income individuals and families through the creation of sustainable business development and employment opportunities.

Award funds will support renovation of the Culture, Arts, Recreation and Education Center (CARE Center) building, including architectural and engineer fees, construction permits, construction bonds, legal and accounting contracting services, seismic redesign (related to earthquake protection), heating, ventilating, air condition design and installation, fire sprinklers, and an elevator for handicap accessibility. The renovated facility will be used for culture, arts, and education activities. It will house recreational facilities, a conference training space, an outdoor community garden, and rental space for small businesses that will facilitate economic growth in the district.

Statutory Authority: Section 680(a)(2) of the Community Services Block Grant (CSBG) Act of 1981, as amended by the Community Opportunities, Accountability, and Training and Educational Services Act of 1998 (Pub. L. 105-285), as amended.

Melody Wayland,
Senior Grants Policy Specialist, Office of Administration, Office of Financial Services, Division of Grants Policy.

[FR Doc. 2014-24205 Filed 10-9-14; 8:45 am]

BILLING CODE 4184-26-P